Title 3—

The President

Proclamation 10289 of October 15, 2021

National Peace Officers' Memorial Service

By the President of the United States of America

A Proclamation

In honor of the National Peace Officers' Memorial Service being held in Washington, D.C., to remember and pay respect to law enforcement officers who died in the line of duty and their families, by the authority vested in me as President of the United States by the Constitution and the laws of the United States of America, I hereby order that the flag of the United States shall be flown at half-staff at the White House and upon all public buildings and grounds, at all military posts and naval stations, and on all naval vessels of the Federal Government in the District of Columbia and throughout the United States and its Territories and possessions on Saturday, October 16, 2021. I also direct that the flag shall be flown at half-staff for the same length of time at all United States embassies, legations, consular offices, and other facilities abroad, including all military facilities and naval vessels and stations.

IN WITNESS WHEREOF, I have hereunto set my hand this fifteenth day of October, in the year of our Lord two thousand twenty-one, and of the Independence of the United States of America the two hundred and forty-sixth.

[FR Doc. 2021-23049

Filed 10-19-21; 11:15 am]

Billing code 3395-F2-P